DEFENSE NUCLEAR FACILITIES SAFETY BOARD

Sunshine Act Meetings

FEDERAL REGISTER CITATION OF PREVIOUS ANNOUNCEMENT: Notice of this meeting was published in the Federal Register of January 31, 2019, in FR Doc. 2019-00806, on page 678. Notice of the meeting's postponement was published in the Federal Register of March 20, 2019, in FR Doc. 2019-05374, on page 10302.

PREVIOUSLY ANNOUNCED TIME AND DATE OF THE MEETING: March 21, 2019, 9:00 a.m.-12:00 p.m.

CHANGES IN THE MEETING: This meeting will now be held on April 23, 2019, from 1:00 p.m. to 3:00 p.m.

CONTACT PERSON FOR MORE INFORMATION: Glenn Sklar, General Manager, Defense Nuclear Facilities Safety Board, 625 Indiana Avenue NW, Suite 700, Washington, DC 20004-2901, (800) 788-4016. This is a toll-free number.

Dated: March 21, 2019.
Bruce Hamilton,
Chairman.

[FR Doc. 2019-05727 Filed 3-21-19; 4:15 pm]

BILLING CODE 3670-01-P